DEPARTMENT OF AGRICULTURE

Submission for OMB Review; Comment Request

August 23, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by September 27, 2018 will be considered. Written comments should be addressed to: Desk Officer for Agriculture, Office of Information and Regulatory Affairs, Office of Management and Budget (OMB), New Executive Office Building, 725—17th Street NW, Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: National Woodland Owner Survey.

OMB Control Number: 0596-0078.

Summary of Collection: The Forest and Rangeland Renewable Resources Planning Act of 1974 (Pub. L. 93-278 Sec. 3) and the Forest and Rangeland Renewable Resources Research Act of 1978 (Pub. L. 307 Sec. 3) are the legal authorities for conducting the National Woodland Owner Survey. In the United States, there are an estimated 816 million acres of forests and other wooded land. Over half of this land is privately owned by an estimated 11.5 million private ownerships that control over half of the nation's forests and other wooded land. The remaining forestland is managed by over a thousand federal, state, and local government agencies. The National Woodland Owner Survey (NWOS) collects information to help answer questions related to the characteristics of the landholdings and landowners, ownership objectives, the supply of timber and non-timber products, forest management practices, climate change, wildfires, invasive species, and delivery of the concerns/constraints perceived by the landowners.

Need and Use of the Information: The NWOS will utilize a mixed-mode survey technique involving cognitive interviews, focus groups, self-administered questionnaires, and telephone interviews. The Forest Service (FS) will use several, interrelated forms: Long, short, state-specific, science modules, corporate, public and urban versions to collect information. Data collected will help FS to determine the opportunities and constraints that private woodland owners typically face; and facilitate planning and implementing forest policies and programs. If the information is not collected the knowledge and understanding of private woodland ownerships and their concerns and activities will be severely limited.

Description of Respondents: Individuals or households; Business or other for-profit; State, Local or Tribal Government.

Number of Respondents: 4,188.

Frequency of Responses: Reporting: Other (every 5 years).

Total Burden Hours: 2,198.

Forest Service

Title: The Stewardship Mapping and Assessment Project (STEW-MAP).

OMB Control Number: 0596-0240.

Summary of Collection: The Cooperative Forestry Assistance Act of 1978 (Pub. L. 113-79) Section 9(a); (b)(8); (c) and (d); The Forest and Rangeland Renewable Resources Research Act of 1978 and the National Environmental Policy act of 1969 authorize the Forest Service to expand and strengthen existing research, education, technical assistance and public information and participation in tree planting and maintenance programs through stewardship. Civic environmental stewards are involved in a range of activities like planting trees, organizing community gardens, offering environment-themed classes, leading local conservation efforts, monitoring plants and animals, and cleaning up nearby parks or natural areas. These stewards may be nonprofit organizations, formal or informal community groups, faith-based organizations, or academic institutions. STEW-MAP will create a publicly available database and map of stewardship groups, their activities, and where they work.

Need and Use of the Information: Information will be gathered on civic stewardship groups and their efforts such as where they work, the types of projects they focus on, and how they are organized. There are three phases to a STEW-MAP project: (1) A census to put together a master list of known stewardship groups and their contact information in the target city or region; (2) a survey distributed to all of the organizations identified in phase one to collect information about what they work on, structure of the group and what other groups they collaborate with; and (3) follow-up interviews with key longstanding organizations identified during phase two, to collect more detailed information about organizational histories. Without this information collection, FS would be unable to understand the current state of civic natural resource stewardship and would be unable to identify the organizations that may provide assistance to a given geographical area.

Description of Respondents: Business or other for-profit; Not-for-profit institutions; State, Local or Tribal Governments.

Number of Respondents: 6,050.

Frequency of Responses: Reporting: Annually.

Total Burden Hours: 1,642.

Ruth Brown,
Departmental Information Collection Clearance Officer.

[FR Doc. 2018-18583 Filed 8-27-18; 8:45 am]

BILLING CODE 3410-15-P